DEPARTMENT OF HEALTH AND HUMAN SERVICES

Administration for Children and Families

Submission for OMB Review; Comment Request

Title: Title IV-E Foster Care Eligibility Reviews, Child and Family Services Reviews, and section 471(a)(18) Compliance Reviews.

OMB No.: 0970-0214.

Description: ACF is seeking re-authorization of the monitoring protocols for the child and family service reviews, re-authorization of the tools needed to assess title IV-E eligibility and payment accuracy, and re-authorization of the corrective action plan regarding removal of barriers to interethnic adoption.

Section 1123A of the Social Security Act (the Act) and regulations at 45 CFR 1355.31 through 1355.37 govern the child and family service reviews (CFSR). Three information collections are associated with the CFSR: A statewide assessment, an on-site review, and a program improvement plan. The purpose of the CFSR is to help States improve services and outcomes for children and families.

Section 471(a)(7) of the Act and 45 CFR 1356.71 govern the Federal reviews of State compliance with title IV-E eligibility provisions at 472(a) and (b) of the Act as they apply to children and foster care providers. There is one information collection associated with the IV-E eligibility reviews: a program improvement plan.

Section 471(a)(18) of the Act and 45 CFR 1355.38(b) and (c) prohibit the delay or denial of foster or adoptive placements based on the race, color, or national origin of any of the individuals involved. The enforcement provisions require the completion of corrective action plans when a State is in violation of the Multiethnic Placement Act (MEPA), as amended.

Respondents: States.

Annual Burden Estimates
Instrument | Number of respondents | Number of responses per respondent | Average burden hours per response | Total burden hours
1355.33(b) Statewide Assessment | 11 | 1 | 240 | 2,640
1355.33(c) On-site Review | 11 | 1 | 900 | 9,900
1355.35(a) Program Improvement Plan | 11 | 1 | 80 | 880
1356.71(i) Program Improvement Plan | 4 | 1 | 63 | 252
1355.38(b) and (c) Corrective Action Plan | 5 | 1 | 80 | 400
Estimated Total Annual Burden Hours: |  |  |  | 14,072

Additional Information: Copies of the proposed collection may be obtained by writing to the Administration for Children and Families, Office of Administration, Office of Information Services, 370 L'Enfant Promenade, SW., Washington, DC 20447, Attn: ACF Reports Clearance Officer. All requests should be identified by the title of the information collection. E-mail address: rsargis@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Washington, DC, Attn: Desk Officer for ACF, E-mail address: lauren_wittenberg@eop.gov.

Dated: July 7, 2003.
Robert Sargis,
Reports Clearance Officer.

[FR Doc. 03-17742 Filed 7-11-03; 8:45 am]

BILLING CODE 4184-01-M